DEPARTMENT OF LABOR

Office of the Secretary

Submission for OMB Review: Comment Request

February 23, 2009

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation; including among other things a description of the likely respondents, proposed frequency of response, and estimated total burden may be obtained from the RegInfo.gov Web site at http://www.reginfo.gov/public/do/PRAMain or by contacting Mary Beth Smith-Toomey on 202-693-4223 (this is not a toll-free number)/e-mail: DOL_PRA_PUBLIC@dol.gov.

Interested parties are encouraged to send comments to the Office of Information and Regulatory Affairs, Attn: OMB Desk Officer for the Department of Labor—ETA, Office of Management and Budget, Room 10235, Washington, DC 20503, Telephone: 202-395-7316/Fax: 202-395-6974 (these are not toll-free numbers), e-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Training Administration.

Type of Review: Revision of a currently approved collection.

Title of Collection: Unemployment Insurance Trust Fund Activity.

OMB Control Number: 1205-0154.

Agency Form Numbers: ETA 8401, ETA 8403, ETA 8405, ETA 8413, ETA 8414, ETA 2112.

Affected Public: State, Local and Tribal Governments.

Total Estimated Number of Respondents: 53.

Total Estimated Annual Burden Hours: 1,802.

Total Estimated Annual Costs Burden: $0.

Description: These data collection instruments comprise the Unemployment Trust Fund (UTF) management reports. These reports assure that UTF contributions collected are immediately paid over to the Secretary of the Treasury in conformity with Section 303(a)(4) of the Social Security Act (SSA) and section 3304(a)(3) of the Federal Unemployment Tax Act (FUTA); and that expenditure of all money withdrawn from the unemployment fund of a state is used exclusively for the payment of benefits, exclusive of refund (SSA, Section 303(a)(5), FUTA section 3304(a)(4)). A minor change is made to include new reporting required as a result of the American Recovery and Reinvestment Act (Pub. L. 111-1). For additional information, see related notice published at Volume 73 FR 73958 on December 4, 2008.

Darrin A. King,
Departmental Clearance Officer.

[FR Doc. E9-4298 Filed 2-27-09; 8:45 am]

BILLING CODE 4510-FW-P